DEPARTMENT OF THE TREASURY

Submission for OMB Review; Comment Request

March 19, 2013.

The Department of the Treasury will submit the following information collection requests to the Office of Management and Budget (OMB) for review and clearance in accordance with the Paperwork Reduction Act of 1995, Public Law 104-13, on or after the date of publication of this notice.

DATES: Comments should be received on or before April 22, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-2102.

Type of Review: Revision of a currently approved collection.

Title: Form 13930—Central Withholding Agreement; Form 13920—Directed Withholding and Deposit Verification Form.

Form: 13920; 13930.

Abstract: Form 13930 will be used by an individual who wishes to have a Central Withholding Agreement (CWA). IRC Section 1441(a) requires withholding on certain payments of Non Resident Aliens (NRAs). Section 1.1441-4(b)(3) of the Income Tax Regulations provides that the withholding can be considered for adjustment if a CWA is applied for and granted. Form 13920 is used by withholding agents to verify to IRS that required deposits were made and give the amount of such deposits.

Affected Public: Private Sector: Businesses and other for-profits, Not-for-profit institutions; Individuals or households.

Estimated Total Burden Hours: 11,900.

Dawn D. Wolfgang,
Treasury PRA Clearance Officer.

[FR Doc. 2013-06644 Filed 3-21-13; 8:45 am]

BILLING CODE 4830-01-P